DEPARTMENT OF COMMERCE

International Trade Administration

Antifriction Bearings (Other Than Tapered Roller Bearings) and Parts Thereof From Japan; Amended Final Results of Antidumping Duty Administrative Reviews

[A-588-804]

AGENCY: Import Administration, International Trade Administration, Department of Commerce.

ACTION: Notice of final court decision and amended final results of administrative reviews.

SUMMARY: On June 28, 2002, the United States Court of Appeals for the Federal Circuit affirmed the United States Court of International Trade's affirmation of the Department of Commerce's final remand results affecting final assessment rates for the administrative review of the antidumping duty orders on antifriction bearings (other than tapered roller bearings) and parts thereof from Japan with respect to NSK Ltd., NTN Corporation, and Koyo Seiko Co. Ltd,. and the period May 1, 1995, through April 30, 1996. The classes or kinds of merchandise covered by these reviews are ball bearings and parts thereof, cylindrical roller bearings and parts thereof, and spherical plain bearings and parts thereof. As there is now a final and conclusive court decision in these actions, we are amending our final results of reviews and we will instruct the U.S. Customs Service to liquidate entries subject to these reviews.

EFFECTIVE DATE: May 1, 2003.

FOR FURTHER INFORMATION CONTACT: Susan Lehman or Richard Rimlinger, AD/CVD Enforcement Group I, Office 3, Import Administration, International Trade Administration, U.S. Department of Commerce, 14th Street and Constitution Avenue, N.W., Washington, D.C. 20230; telephone: 202-482-0180 or 202-482-4477, respectively.

SUPPLEMENTARY INFORMATION:

Background

On October 17, 1997, the Department of Commerce (the Department) published Antifriction Bearings (Other Than Tapered Roller Bearings) and Parts Thereof From France, Germany, Italy, Japan, Romania, Singapore, Sweden and the United Kingdom: Final Results of Antidumping Duty Administrative Reviews, 62 FR 66472, and on November 20, 1997, it published Antifriction Bearings (Other Than Tapered Roller Bearings) and Parts Thereof From France, Germany, Italy, Japan, Romania, Singapore, Sweden and the United Kingdom; Amended Final Results of Antidumping Duty Administrative Reviews, 62 FR 61963 (collectively, AFBs 7), which covered the period May 1, 1995, through April 30, 1996. The Japanese companies covered by the reviews are NTN Corporation (NTN), NSK Ltd. (NSK), Koyo Seiko Co., Ltd. (Koyo), Nippon Pillow Block Manufacturing Company (NPBS), and Nachi Fujikoshi (Nachi). The classes or kinds of merchandise covered by these reviews are ball bearings and parts thereof (BBs), cylindrical roller bearings and parts thereof (CRBs), and spherical plain bearings and parts thereof (SPBs). Various parties appealed AFBs 7.

On June 5, 2000, the Court issued an order in NTN Bearing Corporation of America, NTN Corporation, American NTN Bearings Manufacturing Corporation, NTN Driveshaft, Inc. and NTN-Bower Corporation; NSK Ltd. and NTN Corporation; Koyo Seiko Co., Ltd. and Koyo Corporation of U.S.A. v. United States, Consol. Court No. 97-10-01801, Slip Op. 00-64 (June 5, 2000) (NTN), remanding AFBs 7 to the Department. In NTN, the Court remanded AFBs 7 to the Department to make the following changes: 1) annul all findings and conclusions made pursuant to the duty-absorption inquiry conducted for the reviews; 2) make adjustments pursuant to section 772(c) of the Tariff Act of 1930 as amended (the Act), to section 772(a)'s starting price for determining export price; 3) make adjustments pursuant to sections 772(c) and (d) of the Act to section 772(b)'s starting price for determining constructed export price (CEP); 4) articulate how the record supports the Department's decision to recalculate NTN's home-market indirect selling expenses without regard to level of trade; 5) clarify how the Department complied with sections 776 and 782 of the Act by using facts available and applying an adverse inference with respect to NTN's alleged zero-price sample sales and, if the Department determined that it conformed with the statutory framework, to include NTN's sample sales in its U.S. sales database or, if the Department determined that it did not adhere to all of the statutory prerequisite conditions, to give NTN the opportunity to remedy or explain any deficiency regarding its sample sales; and 6) clarify whether NTN was provided with notice and opportunity to respond pursuant to sections 776 and 782 of the Act with regard to its cost-of-production (COP) and constructed-value (CV) data. The remand affected the Department's calculations for NTN, Koyo, and NSK with respect to the antidumping duty orders on BBs, CRBs, and SPBs from Japan for the period May 1, 1995, through April 30, 1996.

The Department submitted its Remand Results to the Court on September 5, 2000. On February 23, 2001, the Court affirmed the Department's Remand Results in their entirety. NTN, NSK, and Koyo appealed the ruling of the Court and the lawsuit was litigated at the United States Court of Appeals for the Federal Circuit (CAFC). On June 28, 2002, the CAFC affirmed the judgment of the Court.

As there is now a final and conclusive court decision with respect to NTN, NSK, and Koyo, we are amending our final results of review for these companies and we will subsequently instruct the U.S. Customs Service to liquidate the relevant entries subject to these reviews.

Amendment to Final Results

Pursuant to section 516A(e) of the Act, we are now amending the final results of administrative reviews of the antidumping duty orders on antifriction bearings (other than tapered roller bearings) and parts thereof from Japan, for the period of May 1, 1995, through April 30, 1996, with respect to NTN. The current rates for NTN are as follows: 6.94 for BBs, 4.33 for CRBs, and 7.19 for SPBs. There are no rate changes for Koyo, Nachi, NPBS, or NSK. Accordingly, the Department will determine and the U.S. Customs Service will assess appropriate antidumping duties on entries of the subject merchandise produced by NTN, NSK, and Koyo. Individual differences between United States price and foreign market value may vary from the percentages listed above. The Department will issue appraisement instructions to the U.S. Customs Service within 15 days of publication of these amended final results of reviews.

The Court remanded AFBs 7 to the Department to annul all findings and conclusions made pursuant to the duty-absorption inquiry it conducted in AFBs 7. The Department complied with the remand as directed by the Court with respect to Koyo, NSK, and NTN and annulled all findings and conclusions made pursuant to its duty-absorption inquiry conducted for the subject reviews with respect to Koyo, NSK, and NTN. The Court affirmed the Department's remand in its entirety.

This notice is published pursuant to section 751(a) of the Act.

Dated: April 24, 2003.
Joseph A. Spetrini,
Acting Assistant Secretary for Import Administration.

[FR Doc. 03-10792 Filed 4-30-03; 8:45 am]

BILLING CODE 3510-DS-S